DEPARTMENT OF TRANSPORTATION

Federal Aviation Administration

14 CFR Part 71

[Docket No. FAA-2020-0667; Airspace Docket No. 20-AGL-24]

RIN 2120-AA66

Proposed Amendment of Multiple Air Traffic Service (ATS) Routes in the Northcentral United States

AGENCY: Federal Aviation Administration (FAA), DOT.

ACTION: Notice of proposed rulemaking (NPRM).

SUMMARY: This action proposes to amend nine VHF Omnidirectional Range (VOR) Federal airways, V-15, V-26, V-55, V-78, V-100, V-159, V-175, V-219, and V-307, and two Area Navigation (RNAV) routes, T-285 and T-354, in the Northcentral United States. The modifications are necessary due to the planned decommissioning of the VOR portion of the Park Rapids, MN, VOR/Distance Measuring Equipment (VOR/DME); Sioux City, IA, VOR/Tactical Air Navigation (VORTAC); and Huron, SD, VORTAC navigation aids (NAVAIDs). The NAVAIDs provide navigation guidance for segments of the affected air traffic service (ATS) routes. The VORs are being decommissioned as part of the FAA's VOR Minimum Operational Network (MON) program.

DATES: Comments must be received on or before September 21, 2020.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2020-0667; Airspace Docket No. 20-AGL-24 at the beginning of your comments. You may also submit comments through the internet at https://www.regulations.gov. FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System (NAS).

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-0667; Airspace Docket No. 20-AGL-24) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0667; Airspace Docket No. 20-AGL-24.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Blvd., Fort Worth, TX 76177.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Background

The FAA is planning decommissioning activities for the VOR portion of the Park Rapids, MN, VOR/DME; Sioux City, IA, VORTAC; and Huron, SD, VORTAC in February, 2021. The VOR portion of the Park Rapids, MN; Sioux City, IA; and Huron, SD, NAVAIDs are candidate VORs identified for discontinuance by the FAA's VOR MON program and listed in the final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Park Rapids, MN; Sioux City, IA; and Huron, SD, NAVAIDs are planned for decommissioning, the co-located DME portion of the NAVAIDs are being retained to support NextGen PBN flight procedure requirements.

The ATS route dependencies to the Park Rapids VOR/DME are VOR Federal airways V-55, V-175, and RNAV route T-354. Similarly, the ATS route dependencies to the Sioux City VORTAC are VOR Federal airways V-15, V-100, V-159, V-175, V-219, and V-307. Lastly, the ATS route dependencies to the Huron VORTAC are VOR Federal airways V-15, V-26, V-78, V-159, and RNAV route T-285.

With the planned decommissioning of the VOR portion of the Park City, MN; Sioux City, IA; and Huron, SD, NAVAIDs, the remaining ground-based NAVAID coverage in the area is insufficient to enable the continuity of the affected VOR Federal airways. As such, proposed modifications to the affected airways would result in gaps in those airways or the airways being shortened. To overcome the airway gaps or lost airway segments at the end of an airway, instrument flight rules (IFR) traffic could use adjacent ATS routes, including V-24, V-80, V-120, V-129, V-148, V-170, V-171, V-181, V-218, V-263, V-398, V-410, V-430, T-330, T-354, and T-383, or receive air traffic control (ATC) radar vectors to fly through or circumnavigate the affected area. Additionally, IFR pilots equipped with RNAV PBN capabilities could also navigate point to point using the existing fixes that will remain in place to support continued operations though the affected area. Visual flight rules (VFR) pilots who elect to navigate via the airways through the affected area could also take advantage of the adjacent VOR Federal airways or ATC services listed previously.

Further, the FAA proposes to retain RNAV routes T-285 and T-354 as they are charted today, with a route segment added to extend T-354 northwestward between the BYZIN, ND, waypoint and the Park Rapids, MN, VOR/DME facility to join T-330 at the BYZIN waypoint. The added route segment would provide enroute structure between the Park Rapids VOR/DME and the Grand Forks VOR/DME, as well as support ongoing FAA NextGen efforts to transition the NAS to performance-based navigation. Minor editorial amendments to the existing T-285 and T-354 descriptions would reflect the Park Rapids, MN (PKD), and Huron, SD (HON), route points as “DME” facilities due to the VOR portion of the NAVAIDs being decommissioned.

The Proposal

The FAA is proposing an amendment to Title 14 Code of Federal Regulations (14 CFR) part 71 by modifying VOR Federal airways V-15, V-26, V-55, V-78, V-100, V-159, V-175, V-219, and V-307, and RNAV routes T-285 and T-354. The planned decommissioning of the VOR portion of the Park Rapids, MN, VOR/DME; Sioux City, IA, VORTAC; and Huron, SD, VORTAC NAVAIDs has made this action necessary. The proposed VOR Federal airway changes are outlined below.

V-15: V-15 currently extends between the Navasota, TX, VOR/DME and the Bonham, TX, VORTAC; between the Okmulgee, OK, VOR/DME and the Neosho, MO, VOR/DME; and between the Sioux City, IA, VORTAC and the Minot, ND, VOR/DME. The FAA proposes to remove the airway segment overlying the Sioux City, IA, and Huron, SD, VORTACs between the Sioux City, IA, VORTAC and the Aberdeen, SD, VOR/DME. The unaffected portions of the existing airway would remain as charted.

V-26: V-26 currently extends between the Blue Mesa, CO, VOR/DME and the White Cloud, MI, VOR/DME. The FAA proposes to remove the airway segment overlying the Huron, SD, VORTAC between the Pierre, SD, VORTAC and the Redwood Falls, MN, VOR/DME. The unaffected portions of the existing airway would remain as charted.

V-55: V-55 currently extends between the Dayton, OH, VOR/DME and the intersection of the Green Bay, WI, VORTAC 270° and Oshkosh, WI, VORTAC 339° radials (BIPID fix); and between the Park Rapids, MN, VOR/DME and the Bismarck, ND, VOR/DME. The FAA proposes to remove the airway segment overlying the Park Rapids, MN, VOR/DME between the Park Rapids, MN, VOR/DME and the Grand Forks, ND, VOR/DME. Additional changes to other portions of the airway have been proposed in a separate NPRM. The unaffected portions of the existing airway would remain as charted.

V-78: V-78 currently extends between the Huron, SD, VORTAC and the Escanaba, MI, VOR/DME; and between the Pellston, MI, VORTAC and the Saginaw, MI, VOR/DME. The FAA proposes to remove the airway segment overlying the Huron, SD, VORTAC between the Huron, SD, VORTAC and the Watertown, SD, VORTAC. The unaffected portions of the existing airway would remain as charted.

V-100: V-100 currently extends between the Medicine Bow, WY, VOR/DME and the Litchfield, MI, VOR/DME. The FAA proposes to remove the airway segment overlying the Sioux City, IA, VORTAC between the O'Neill, NE, VORTAC and the Fort Dodge, IA, VORTAC. The unaffected portions of the existing airway would remain as charted.

V-159: V-159 currently extends between the Virginia Key, FL, VOR/DME and the Vulcan, AL, VORTAC; and between the Holly Springs, MS, VORTAC and the Huron, SD, VORTAC. The FAA proposes to remove the airway segment overlying the Sioux City, IA, and Huron, SD, VORTACs between the Omaha, IA, VORTAC and the Huron, SD, VORTAC. The unaffected portions of the existing airway would remain as charted.

V-175: V-175 currently extends between the Malden, MO, VORTAC and the Winnipeg, MB, Canada, VORTAC. The airspace within Canada is excluded. The FAA proposes to remove the airway segment overlying the Sioux City, IA, VORTAC between the Des Moines, IA, VORTAC and the Worthington, MN, VOR/DME; and remove the airway segment overlying the Park Rapids, MN, VOR/DME between the Alexandria, MN, VOR/DME and the Winnipeg, MB, Canada, VORTAC. The exclusion statement for the airspace within Canada would also be removed. The unaffected portions of the existing airway would remain as charted.

V-219: V-219 currently extends between the Hayes Center, NE, VORTAC and the Sioux City, IA, VORTAC. The FAA proposes to remove the airway segment overlying the Sioux City, IA, VORTAC between the Norfolk, NE, VOR/DME and the Sioux City, IA, VORTAC. The unaffected portions of the existing airway would remain as charted.

V-307: V-307 currently extends between the Harrison, AR, VOR/DME and the Sioux City, IA, VORTAC. The FAA proposes to remove the airway segment overlying the Sioux City, IA, VORTAC between the Omaha, IA, VORTAC and the Sioux City, IA, VORTAC. The unaffected portions of the existing airway would remain as charted.

The proposed RNAV route changes are outlined below.

T-285: T-285 currently extends between the North Platte, NE, VOR/DME and the Huron, SD, VORTAC. The FAA proposes to change the Huron, SD (HON) route point from being listed as “VORTAC” to “DME”. The existing RNAV route would remain as charted.

T-354: T-354 currently extends between the Park Rapids, MN, VOR/DME and the Siren, WI, DME. The FAA proposes to change the Park Rapids, MN (PKD), route point from being listed as “VOR/DME” to “DME” and add a route segment between the BYZIN, ND, waypoint and the Park Rapids, MN, DME facility. The added segment would extend T-354 northwestward to join T-330 at the BYZIN waypoint and provide enroute structure between the Park Rapids VOR/DME and the Grand Forks VOR/DME that would be removed by the proposed V-55 amendment above. Additional changes to the route have been proposed in a separate NPRM. The existing RNAV route would remain as charted with the addition of the route segment proposed between the BYZIN, ND, waypoint and the Park Rapids, MN, DME.

All NAVAID radials listed in the VOR Federal airway descriptions below are unchanged and stated in True degrees.

VOR Federal airways are published in paragraph 6010(a) and RNAV T-routes are published in paragraph 6011 of FAA Order 7400.11D dated August 8, 2019, and effective September 15, 2019, which is incorporated by reference in 14 CFR 71.1. The ATS routes listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6010(a) Domestic VOR Federal Airways.

* * * * *

V-15 [Amended]

From Navasota, TX; College Station, TX; Waco, TX; Cedar Creek, TX; to Bonham, TX. From Okmulgee, OK; to Neosho, MO. From Aberdeen, SD; Bismarck, ND; to Minot, ND.

* * * * *

V-26 [Amended]

From Blue Mesa, CO; Montrose, CO; 13 miles 112 MSL, 131 MSL, Grand Junction, CO; Meeker, CO; Cherokee, WY; Muddy Mountain, WY; 14 miles, 37 miles 75 MSL, 84 miles 90 MSL, Rapid City, SD; Philip, SD; to Pierre, SD. From Redwood Falls, MN; Farmington, MN; Eau Claire, WI; Wausau, WI; Green Bay, WI; INT Green Bay 116° and White Cloud, MI, 302° radials; to White Cloud.

* * * * *

V-55 [Amended]

From Dayton, OH; Fort Wayne, IN; Goshen, IN; Gipper, MI; Keeler, MI; Pullman, MI; Muskegon, MI; INT Muskegon 327° and Green Bay, WI, 116° radials; Green Bay; to INT Green Bay 270° and Oshkosh, WI, 339° radials. From Grand Forks, ND; INT Grand Forks 239° and Bismarck, ND, 067° radials; to Bismarck.

* * * * *

V-78 [Amended]

From Watertown, SD; Darwin, MN; Gopher, MN; INT Gopher 091° and Eau Claire, WI, 290° radials; Eau Claire; Rhinelander, WI; Iron Mountain, MI; to Escanaba, MI. From Pellston, MI; Alpena, MI; INT Alpena 232° and Saginaw, MI, 353° radials; to Saginaw.

* * * * *

V-100 [Amended]

From Medicine Bow, WY; Scottsbluff, NE; Alliance, NE; Ainsworth, NE; to O'Neill, NE. From Fort Dodge, IA; Waterloo, IA; Dubuque, IA; Rockford, IL; INT Rockford 074° and Janesville, WI, 112° radials; INT Janesville 112° and Northbrook, IL, 291° radials; Northbrook; INT Northbrook 095° and Keeler, MI, 271° radials; Keeler; to Litchfield, MI.

* * * * *

V-159 [Amended]

From Virginia Key, FL; INT Virginia Key 344° and Treasure, FL, 178° radials; Treasure; INT Treasure 318° and Orlando, FL, 140° radials; Orlando; Ocala, FL; Cross City, FL; Greenville, FL; Pecan, GA; Eufaula, AL; Tuskegee, AL; to Vulcan, AL. From Holly Springs, MS; Gilmore, AR; Walnut Ridge, AR; Dogwood, MO; Springfield, MO; Napoleon, MO; INT Napoleon 005° and St. Joseph, MO, 122° radials; St. Joseph; to Omaha, IA.

* * * * *

V-175 [Amended]

From Malden, MO; Vichy, MO; Hallsville, MO; Macon, MO; Kirksville, MO; to Des Moines, IA. From Worthington, MN; Redwood Falls, MN; to Alexandria, MN.

* * * * *

V-219 [Amended]

From Hayes Center, NE; INT Hayes Center 059° and Wolbach, NE, 251° radials; Wolbach; to Norfolk, NE.

* * * * *

V-307 [Amended]

From Harrison, AR; Neosho, MO; Oswego, KS; Chanute, KS; Emporia, KS; INT Emporia 336° and Pawnee City, NE, 194° radials; Pawnee City; to Omaha, IA.

* * * * *

6011 United States Area Navigation Routes.

* * * * *

T-285 North Platte, NE (LBF) to Huron, SD (HON) [Amended]

North Platte, NE (LBF) | VOR/DME | (Lat. 41°02′55.34″ N, long. 100°44′49.55″ W).
Thedford, NE (TDD) | VOR/DME | (Lat. 41°58′53.99″ N, long. 100°43′08.55″ W).
MARSS, NE | Fix | (Lat. 42°27′48.92″ N, long. 100°36′15.32″ W).
Valentine, NE (VTN) | NDB | (Lat. 42°51′41.85″ N, long. 100°32′58.73″ W).
LKOTA, SD | WP | (Lat. 43°15′28.00″ N, long. 100°03′14.00″ W).
LESNR, SD | WP | (Lat. 43°29′16.06″ N, long. 099°45′41.55″ W).
Huron, SD (HON) | DME | (Lat. 44°26′24.30″ N, long. 098°18′39.89″ W).

T-354 BYZIN, MN to Siren, WI (RZN) [Amended]

BYZIN, MN | WP | (Lat. 47°29′03.97″ N, long. 096°13′28.09″ W).
Park Rapids, MN (PKD) | DME | (Lat. 46°53′53.34″ N, long. 095°04′15.21″ W).
BRNRD, MN | WP | (Lat. 46°20′53.81″ N, long. 094°01′33.54″ W).
Siren, WI (RZN) | DME | (Lat. 45°49′13.60″ N, long. 092°22′28.26″ W).

* * * * *

Issued in Washington, DC, on July 29, 2020.
Scott M. Rosenbloom,
Acting Manager, Rules and Regulations Group.

[FR Doc. 2020-16920 Filed 8-4-20; 8:45 am]

BILLING CODE 4910-13-P